DEPARTMENT OF COMMERCE

International Trade Administration

Initiation of Antidumping and Countervailing Duty Administrative Reviews and Request for Revocation in Part

AGENCY: Import Administration, International Trade Administration, Department of Commerce.

ACTION: Notice of Initiation of Antidumping and Countervailing Duty Administrative Reviews and Requests for Revocation in Part.

SUMMARY: The Department of Commerce (the Department) has received requests to conduct administrative reviews of various antidumping and countervailing duty orders and findings with July anniversary dates. In accordance with the Department's regulations, we are initiating those administrative reviews. The Department also received requests to revoke three antidumping duty orders in part.

EFFECTIVE DATE: August 22, 2003.

FOR FURTHER INFORMATION CONTACT: Holly A. Kuga, Office of AD/CVD Enforcement, Import Administration, International Trade Administration, U.S. Department of Commerce, 14th Street and Constitution Avenue, NW., Washington, DC 20230, telephone: (202) 482-4737.

SUPPEMENTARY INFORMATION:

Background

The Department has received timely requests, in accordance with 19 CFR 351.213(b)(2002), for administrative reviews of various antidumping and countervailing duty orders and findings with July anniversary dates. The Department also received timely requests to revoke in part the antidumping duty orders on Silicon Metal from Brazil, Canned Pineapple Fruit from Thailand and Bulk Aspirin from the People's Republic of China.

Initiation of Reviews

In accordance with 19 CFR 351.221(c)(1)(i), we are initiating administrative reviews of the following antidumping and countervailing duty orders and findings. We intend to issue the final results of these reviews not later than July 31, 2004.

| Period to be reviewed
Antidumping Duty Proceedings
Brazil: Silicon Metal, A-351-806 | 7/1/02-6/30/03
Companhia Brasileira Carbureto De Calcio
Companhia Ferroligas Minas Gerais-Minasligas
Chile: Individual Quick Frozen Red Raspberries, A-337-806 | 12/31/01-6/30/03
Agricola Nova Ltda.
Agroindustrial Frisac Ltda.
Agroindustrial Merco Trading Ltda.
Agroindustria Sagrada Familia Ltda.
Agroindustrial Frutos del Maipo Ltda.
Agross S.A.
Alimentos Proeteo Ltda.
Alimentos Frutos S.A.
Andesur S.A.
Arvalan S.A.
Armijo Carrasco, Claudio del Carmen
Bajo Cero S.A.
Certified Pure Ingredients (Chile) Inc. y Cia. Ltda.
Chile Andes Foods S.A.
Angloeuro Comercio Exterior S.A.
Comercializadora Agricola Berries & Fruit Ltda.
Comercializadora de Alimentos del Sur Ltda.
Comercio y Servicios S.A.
Copefrut S.A.
C y C Group S.A.
Exportaciones Meyer S.A.
Multifrigo Valparaiso S.A.
Exportadora Pentagro S.A.
Agroindustria Framberry Ltda.
Francisco Nancuvilu Punsin
Frigorifico Ditzler Ltda.
Frutas de Guaico S.A.
Fruticola Olmue S.A.
Fruticola Viconto S.A.
Hassler Monckeberg S.A.
Hortifrut S.A.
Interagro Comercio Y Ganado S.A.
Kugar Export Ltda.
Maria Teresa Ubilla Alarcon
Prima Agrotrading Ltda.
Procesadora y Exportadora de Frutas y Vegetales Ltda.
Santiago Comercio Exterior Exportaciones Ltda.
Sociedad Agricola Valle del Laja Ltda.
Sociedad Exportaciones Antiquino Ltda.
Sociedad San Ernesto Ltda.
Terra Natur S.A.
Terrazas Export S.A.
Uren Chile S.A.
Valles Andinos S.A.
Vital Berry Marketing S.A.
Rio Teno S.A.
Nevada Export S.A.
Agroindustrias San Francisco Ltda.
Agroindustria Niquen Ltda.
Agroindustria y Frigorifico M y M Ltda.
Agrocomercial Las Tinajas Ltda.
France: Stainless Steel Sheet and Strip in Coils, A-427-814 | 7/1/02-6/30/03
Ugine & ALZ France S.A.
Germany: Industrial Nitrocellulos, A-428-803 | 7/1/02-6/30/03
Hagedorn AG
Wolff Walsrode AG
Germany: Stainless Steel Sheet and Strip in Coils A-428-825 | 7/1/02-6/30/03
Krupp Thyssen Nirosta GmbH
Thyssen Krupp VDM GmbH
India: Polyethylene Terephthalate (PET) Film, A-533-824 | 12/21/01-6/30/03
Jindal Polyester Limited of India
Iran: In-Shell Pistachios, A-507-502 | 7/1/02-6/30/03
Nima Trading Company
Italy: Certain Pasta, A-475-818 | 7/1/02-6/30/03
Barilla Alimentare, S.p.A.
Rummo S.p.A. Molino e Pastificio
Pastificio Antonio Pallante S.r.L.
Industrie Alimentari Molisane S.r.I.
Pastifico Fratelli Pagani S.p.A.
Prodotti Alimentari Meridionali
Pastificio Guido Ferrara S.r.L.
Pastificio Garofalo S.p.A.
Industrie Alimentare Colavita, S.p.A.
Pastificio Riscossa F. Illi Mastromauro, S.r.L.
Pastificio Carmine Russo S.p.A./Pastificio Di Nola S.p.A.
Corticella Molini e Pasrifici S.p.a./Pasta Combattenti S.p.a.
La Molisana Industrie Alimentari S.p.a.
Pasta Lensi S.r.l. (successor to IAPC Italia S.r.l.)
Molino e Pastificio Tomasello S.r.l.
Italy: Stainless Steel Sheet Strip in Coils, A-475-824 | 7/1/02-6/30/03
Thyssen Krupp Acciai Speciali S.p.A.
Japan: Stainless Steel Sheet and Strip in Coils, A-588-845 | 7/1/02-6/30/03
Kawasaki Steel Corporation
Mexico: Stainless Steel Sheet and Strip in Coils, A-201-822 | 7/1/02-6/30/03
Thyssen Krupp Mexinox S.A. de C.V.
Republic of Korea: Stainless Steel Sheet and Strip in Coils, A-580-834 | 7/1/02-6/30/03
Dai Yang Metal Co., Ltd.
Taiwan: Polyethylene Terephthalate Film, & Strip, A-583-837 | 12/21/01-6/30/03
Nan Ya Plastics Corporation, Ltd.
Shinkong Synthetic Fibers Corporation
Taiwan: Stainless Steel Sheet and Strip in Coils, A-583-831 | 7/1/02-6/30/03
Ta Chen Stainless Pipe Co., Ltd.
Tung Mung Development Co., Ltd.
Yieh United Steel Corporation
China Steel Corporation
Tang Eng Iron Works
PFP Taiwan Co., Ltd.
Yieh Loong Enterprise Co., Ltd.
Yieh Trading Corp.
Goang Jau Shing Enterprise Co., Ltd.
Yieh Mau Corp.
Chien Shing Stainless Co.
Chain Chon Industrial Co., Ltd.
Thailand: Canned Pineapple, A-549-813 | 7/1/02-6/30/03
Dole (Thailand) Ltd./Dole Package Foods Co./Dole Food Co.
Kuiburi Fruit Canning Company Limited
Malee Sampran Public Company, Ltd.
The Prachuab Fruit Canning Company
Siam Fruit Canning (1988) Co., Ltd.
Thai Pineapple Canning Industry Corporation
The Thai Pineapple Public Co., Ltd.
Vita Food Factory (1989) Co., Ltd.
The People's Republic of China: Bulk Aspirin ¹, A-570-853 | 7/1/02-6/30/03
Jilin Henghe Pharmaceutical Co., Ltd.
Shandong Xinhua Pharmaceutical Co., Ltd.
The People's Republic of China: Persulfates ², A-570-847 | 7/1/02-6/30/03
Degussa-AJ (Shanghai) Initiators Co.
Shanghai AJ Import and Export Corporation
The People's Republic of China: Sebacic Acid ³, A-570-825 | 7/1/02-6/30/03
Tianjin Chemicals Import & Export Corporation and manufactured by any compoany other than Hengshui Dongfeng Chemical Co., Ltd.
Guangdong Chemicals Import and Export Corporation.
Turkey: Certain Pasta, A-489-805 | 7/1/02-6/30/03
Beslen Makarna Gida Sanayi ve Ticaret A.S./Beslen Pazarlama Gida Sanayi ve Ticaret, A.S.
Filiz Gida Sanayi ve Ticaret A.S.
Gidasa Sabanci Gida Sanayi ve ticaret, A.S. (successor to Maktas Makarnacilik ve Ticaret, A.S.)
Oba Makarnacilik Sanayi ve Ticaret, A.S.
Pastavilla Makarnacilik Sanayi ve Ticaret, A.S.
The United Kingdom: Industrial Nitrocellulose, A-412-803 | 7/1/02-6/30/03
Imperial Chemical Industries PLC/Nobel's Explosives Company, Ltd.
Troon Investsments Limited/Nobel Enterprises
Countervailing Duty Proceedings
Italy: Certain Pasta, C-475-819 | 1/1/02-12/31/02
Pastificio Carmine Russo S.p.A./Pastificio Di Nola S.p.A.
Pastificio Antonio Pallante S.r.L
Pastifico Fratelli Pagani S.p.A.
Corticella Molini e Pastifici S.p.a/Pasta Combattenti S.p.a.
Pasta Lensi S.r.l. (successor to IAPC Italia S.r.l.)
Pasta Zara S.p.a.
India: Polyethylene Terephthalate (PET) Film, C-533-825 | 10/22/01-12/31/02
Gareware Polyester Limited
Jindal Polyester Limited of India
Polyplex Corporation Limited
Turkey: Certain Pasta, C-489-806 | 1/1/02-12/31/02
Gidasa Sabanci Gida Sanayi ve Ticaret A.S.
Suspension Agreements
None.
¹ If one of the above named companies does not qualify for a separate rate, all other exporters of bulk aspirin fromthe People's Republic of China who have not qualified for a separate rate are deemed to be covered by this review as part of the single PRC entity of which the named exporters are a part.
² If one of the above named companies does not qualify for a separate rate, all other exporters of persulfates from the People's Republic of China who have not qualified for a separate rate are deemed to be covered by this review as part of the single PRC entity of which the named exporters are a part.
³ If one of the above named companies does not qualify for a separate rate, all other exporters of sebacic acid from the People's Republic of China who have not qualified for a separate rate are deemed to be covered by this review as part of the single PRC entity of which the named exporters are a part.

During any administrative review covering all or part of a period falling between the first and second or third and fourth anniversary of the publication of an antidumpting order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)) and 19 CFR 351.221(c)(1)(i).

Dated: August 19, 2003.
Holly A Kuga,
Acting Deputy Assistant Secretary, Group II for Import Administration.

[FR Doc. 03-21578 Filed 8-21-03; 8:45 am]

BILLING CODE 3510-DS-P